NATIONAL AERONAUTICS AND SPACE ADMINISTRATION

[Notice 04-113]

NASA Aeronautics Research Advisory Committee, Aviation Safety Reporting System Subcommittee; Meeting

AGENCY: National Aeronautics and Space Administration.

ACTION: Notice of meeting.

SUMMARY: The National Aeronautics and Space Administration announces a meeting of the Aviation Safety Reporting System Subcommittee (ASRSS).

DATES: Wednesday, November 3, 2004, 8:30 a.m. to 5 p.m.

ADDRESSES: National Air Traffic Controllers Association, 1325 Massachusetts Avenue NW., Washington, DC 20005.

FOR FURTHER INFORMATION CONTACT: Ms. Linda Connell, National Aeronautics and Space Administration, Ames Research Center, Moffett Field, CA 94035, (650) 960-6059.

SUPPLEMENTARY INFORMATION: The meeting will be open to the public up to the seating capacity of the room. The agenda for the meeting is as follows:

—Opening Remarks

—Program Status

—Strategic Planning

—Closing Comments

It is imperative that the meeting be held on these dates to accommodate the scheduling priorities of the key participants.

P. Diane Rausch,
Advisory Committee Management Officer, National Aeronautics and Space Administration.

[FR Doc. 04-23407 Filed 10-19-04; 8:45 am]

BILLING CODE 7510-13-P